POSTAL SERVICE

Board of Governors; Sunshine Act Meeting

DATES AND TIMES: Thursday, February 7, 2013, at 10:00 a.m.; and Friday, February 8, at 8:30 a.m. and 10:30 a.m.

PLACE: Washington, DC, at U.S. Postal Service Headquarters, 475 L'Enfant Plaza SW., in the Benjamin Franklin Room.

STATUS: Thursday, February 7 at 10:00 a.m.—Closed; Friday, February 8 at 8:30 a.m.—Open; and at 10:30 a.m.—Closed.

MATTERS TO BE CONSIDERED:

Thursday, February 7, at 10:00 a.m. (Closed)

1. Strategic Issues.

2. Financial Matters.

3. Pricing.

4. Personnel Matters and Compensation Issues.

5. Governors' Executive Session—Discussion of prior agenda items and Board Governance.

Friday, February 8 at 8:30 a.m. (Open)

1. Approval of Minutes of Previous Meetings.

2. Remarks of the Chairman of the Board.

3. Remarks of the Postmaster General and CEO.

4. Appointment of Committee Members and Committee Reports.

5. Quarterly Report on Financial Performance.

6. Quarterly Report on Service Performance.

7. Tentative Agenda for the April 9, 2013, meeting in Washington, DC

Friday, February 8 at 10:30 a.m. (Closed—If Needed)

1. Continuation of Wednesday's closed session agenda.

CONTACT PERSON FOR MORE INFORMATION: Julie S. Moore, Secretary of the Board, U.S. Postal Service, 475 L'Enfant Plaza SW., Washington, DC 20260-1000. Telephone (202) 268-4800.

Julie S. Moore,
Secretary.

[FR Doc. 2013-01482 Filed 1-22-13; 11:15 am]

BILLING CODE 7710-12-P